DEPARTMENT OF TRANSPORTATION

Federal Motor Carrier Safety Administration

49 CFR Parts 356, 365, and 374

[Docket No. FMCSA-2008-0235]

RIN 2126-AB16

Elimination of Route Designation Requirement for Motor Carriers Transporting Passengers Over Regular Routes: Proposed Delay in Effective Date

AGENCY: Federal Motor Carrier Safety Administration (FMCSA), DOT.

ACTION: Proposed delay in effective date.

SUMMARY: In accordance with the memorandum of January 20, 2009, from the Assistant to the President and Chief of Staff, entitled “Regulatory Review,” published in the Federal Register on January 26, 2009, FMCSA is seeking public comment on a contemplated delay of 90 days in the effective date of its January 16, 2009, final rule entitled “Elimination of Route Designation Requirement for Motor Carriers Transporting Passengers over Regular Routes.” The final rule announced the discontinuation of the administrative requirement that applicants seeking for-hire authority to transport passengers over regular routes submit a detailed description and a map of the route(s) over which they propose to operate. The effective date of the rule is March 17, 2009, with a compliance date of July 15, 2009. The FMCSA is considering a temporary 90-day extension in the effective date to June 15, 2009, to allow the Agency the opportunity for further review and consideration of the final rule. FMCSA acknowledges that the January 20, 2009, memorandum only recommends 60 days, but is allowing for 90 days to give us enough time to consider and respond to comments.

DATES: Comments must be received on or before March 9, 2009.

ADDRESSES: You may submit comments identified by the Federal Docket Management System Number in the heading of this document by any of the following methods. Do not submit the same comments by more than one method. The Federal eRulemaking portal is the preferred method for submitting comments, and we urge you to use it.

Federal eRulemaking Portal: Go to http://www.regulations.gov. Follow the online instructions for submitting comments. In the Comment or Submission section, type Docket ID Number “FMCSA-2008-0235”, select “Go”, and then click on “Send a Comment or Submission.” You will receive a tracking number when you submit a comment.

Telefax: 1-202-493-2251.

Mail, Courier, or Hand-Deliver: Docket Management Facility; U.S. Department of Transportation, Room W12-140, 1200 New Jersey Avenue, SE., Washington, DC 20590-0001. Office hours are between 9 a.m. and 5 p.m., e.t., Monday through Friday, except Federal holidays.

Privacy Act: Regardless of the method used for submitting comments, all comments will be posted without change to the Federal Docket Management System (FDMS) at http://www.regulations.gov. Anyone can search the electronic form of all our dockets in FDMS, by the name of the individual submitting the comment (or signing the comment, if submitted on behalf of an association, business, labor union, etc.). DOT's complete Privacy Act Statement was published in the Federal Register on April 11, 2000 (65 FR 19476), and can be viewed at the URL http://docketsinfo.dot.gov.

FOR FURTHER INFORMATION CONTACT: Mr. David Miller, Regulatory Development Division, (202) 366-5370 or by e-mail at: FMCSAregs@dot.gov.

SUPPLEMENTARY INFORMATION: On January 16, 2009, FMCSA published a final rule announcing the discontinuation of the administrative requirement that applicants seeking for-hire authority to transport passengers over regular routes submit a detailed description and a map of the route(s) over which they propose to operate (74 FR 2895). The Agency indicated that it will register such carriers as regular-route carriers without requiring the designation of specific regular routes and fixed end-points. Once motor carriers have obtained regular-route, for-hire operating authority from FMCSA, they will no longer need to seek additional FMCSA approval in order to change or add routes. The rule amended certain provisions of 49 CFR Parts 356, 365 and 374 to make them consistent with the Agency's discontinuation of the route designation requirement. Each registered regular-route motor carrier of passengers will continue to be subject to the full safety oversight and enforcement programs of FMCSA and its State and local partners.

The effective date of the rule is March 17, 2009, with a compliance date of July 15, 2009.

Contemplated Extension of the Effective Date

In accordance with January 20, 2009 (74 FR 4435) memorandum from the Assistant to the President and Chief of Staff, FMCSA is contemplating an extension of the effective date of its January 16, 2009, final rule from March 17, 2009, to June 15, 2009. This will provide us sufficient time to address issues that have been raised about whether the new rule will make it more difficult for us to enforce our requirements concerning safety and access for individuals with disabilities. Although we believe the final rule fully addressed these issues, in light of the Assistant to the President and Chief of Staff's memorandum, we are proposing to delay the effective date of the final rule to allow the Agency the opportunity for further review and consideration of these issues.

The Agency solicits comments specifically on the contemplated delay in the effective date.

List of Subjects

49 CFR Part 356

Administrative practice and procedure, Routing, Motor carriers.

49 CFR Part 365

Administrative practice and procedure, Brokers, Buses, Freight forwarders, Motor carriers, Moving of household goods, Reporting and recordkeeping requirements.

49 CFR Part 374

Aged, Blind, Buses, Civil rights, Freight, Individuals with disabilities, Motor carriers, Smoking.

Issued on: February 25, 2009.
Rose A. McMurray,
Acting Deputy Administrator.

[FR Doc. E9-4454 Filed 3-2-09; 8:45 am]

BILLING CODE 4910-EX-P